DEPARTMENT OF EDUCATION

34 CFR Chapter VI

[Docket No. ED-2015-OPE-0001; CFDA Numbers: 84.116F and 84.116X]

Final Priorities, Requirements, Definitions, and Selection Criterion—First in the World Program

AGENCY: Office of Postsecondary Education, Department of Education.

ACTION: Final priorities, requirements, selection criterion, and definitions.

SUMMARY: The Assistant Secretary for Postsecondary Education announces priorities, requirements, a selection criterion, and definitions under the First in the World (FITW) program. The Assistant Secretary may use these priorities, requirements, selection criterion, and definitions for competitions in fiscal year (FY) 2015 and later years.

These priorities, requirements, selection criterion, and definitions will enable the Department to focus the FITW program on identified barriers to student success in postsecondary education and advance the program's purpose to build evidence for what works in postsecondary education through development, evaluation, and dissemination of innovative strategies to support students who are at risk of failure in persisting in and completing their postsecondary programs of study.

DATES: These priorities, requirements, selection criterion, and definitions are effective June 10, 2015.

FOR FURTHER INFORMATION CONTACT: Frank Frankfort, U.S. Department of Education, 1990 K Street NW., Room 6166, Washington, DC 20006. Telephone: (202) 502-7513 or by email: frank.frankfort@ed.gov.

If you use a telecommunications device for the deaf (TDD) or a text telephone (TTY), call the Federal Relay Service (FRS), toll free, at 1-800-877-8339.

SUPPLEMENTARY INFORMATION:

Purpose of Program: Earning a postsecondary degree or credential is a prerequisite for the growing jobs of the new economy and the clearest pathway to the middle class. The average earnings of college graduates are almost twice as high as those of workers with only a high school diploma and, over this decade, employment in jobs requiring education beyond a high school diploma will grow more rapidly than employment in jobs that do not.¹

¹ Carnevale, A., Smith, N., Strohl, J., Help Wanted: Projections of Jobs and Education Requirements Through 2018. Georgetown Center on Education and the Workforce, 2010.

Today, even though college enrollment has increased by 50 percent since 1990, and despite the importance of a postsecondary education to financial security for American families, only 40 percent of Americans hold a postsecondary degree.² While the vast majority of high school graduates from the wealthiest American families continue on to higher education, only half of high school graduates from the poorest families attend college.³ About 60 percent of students at four-year institutions earn a bachelor's degree within six years.⁴ For low-income students, the prospects are even worse, as only 40 percent reach completion.⁵ Almost 37 million Americans report “some college, no degree” as their highest level of education.⁶ Due to these outcomes, the United States has been outpaced internationally in higher education. In 1990, the United States ranked third in the world in degree attainment among 25-34 year olds ⁷ (and ranked first in terms of university education ⁸); in 2012, the United States ranked 12th.⁹

² U.S. Census Bureau. “Educational Attainment of the Population 18 Years and Over, by Age, Sex, Race, and Hispanic Origin: 2014” Retrieved from: http://www.census.gov/hhes/socdemo/education/data/cps/2014/tables.html.

³ National Center for Education Statistics. “Percentage of recent high school completers enrolled in 2-year and 4-year colleges, by income level: 1975 through 2012.” Retrieved from: http://nces.ed.gov/programs/digest/d13/tables/dt13_302.30.asp.

⁴ National Center for Education Statistics. “Percentage distribution of first-time postsecondary students starting at 2- and 4-year institutions during the 2003-04 academic year, by highest degree attained, enrollment status, and selected characteristics: Spring 2009.” Retrieved from: http://nces.ed.gov/programs/digest/d13/tables/dt13_326.40.asp.

⁵ Id.

⁶ U.S. Census Bureau, 2012 American Community Survey.

⁷ Organization of Economic Co-operation and Development, Education at a Glance 2004 (Table A3.4b, showing data for 1991).

⁸ Organization of Economic Co-operation and Development, Education at a Glance 1993, Table S5.

⁹ Organization of Economic Co-operation and Development, Education at a Glance 2014.

Recognizing these factors, President Obama set a goal for the country that America will once again have the highest proportion of college graduates in the world. To support this national effort, the Administration has outlined a comprehensive agenda that includes expanding opportunity and increasing quality at all levels of education, from early learning through higher education. The FITW program is a key part of this agenda.

Unlike in previous generations, adult learners, working students, part-time students, students from low-income backgrounds, students of color, and first-generation students now make up the majority of students in college.¹⁰ Ensuring that these students persist in and complete their postsecondary education is essential to meeting our Nation's educational challenges. However, the traditional methods and practices of the country's higher education system have typically not been focused on ensuring successful outcomes for these students, and too little is known about what strategies are most effective for addressing key barriers that prevent these students from persisting and completing.

¹⁰ U.S. Department of Education. 2010. Profile of Undergraduate Students: 2007-08. National Center for Education Statistics: 2010-205. Washington DC.

A key element of the FITW program is its multi-tier structure that links the amount of funding that an applicant may receive to the quality of evidence supporting the efficacy of the proposed project and the scope of its potential impact. In this program, applicants proposing practices supported by limited evidence can receive smaller grants (Development grants) that support the development and initial evaluation of innovative but untested strategies. Applicants proposing practices supported by evidence from rigorous evaluations can receive larger grants (Validation and Scale-up grants), in amounts commensurate to the level of supporting evidence and intended scope, for implementation at greater scale to test whether initially successful strategies remain effective when adopted in varied locations and with large and diverse groups of students. This structure provides incentives for applicants to build evidence of the effectiveness of their proposed projects and to address the barriers to serving large numbers of students within institutions and across institutions, systems, States, regions, or the Nation.

All FITW grantees are required to use part of their budgets to conduct independent evaluations (as defined in this notice) of their projects. This ensures that projects funded under the FITW program contribute significantly to increasing the amount of rigorous research available to practitioners and policymakers about which practices work, for which types of students, and in what contexts.

Program Authority: 20 U.S.C. 1138-1138d.

We published the notice of proposed priorities, requirements, selection criterion, and definitions (NPP) for this program in the Federal Register on February 23, 2015 (80 FR 9414). That notice contained background information and our reasons for proposing the particular priorities, requirements, selection criterion, and definitions.

There are some differences between the proposed priorities, requirements, definitions, and selection criterion and these final priorities, requirements, definitions, and selection criterion. We discuss significant changes from the NPP in the Analysis of Comments and Changes. We do not discuss minor technical or editorial changes.

Public Comment: In response to our invitation in the NPP, 38 parties submitted comments on the proposed priorities, requirements, selection criterion, and definitions. We group major issues according to subject.

Analysis of Comments and Changes: An analysis of the comments and of any changes in the priorities, requirements, selection criterion, and definitions since publication of the NPP follows.

Priorities

Priorities—General

Comment: Two commenters suggested additional priorities. One commenter recommended that the Department add a priority focused on improving the transition between secondary and postsecondary education. The commenter suggested that this priority could include elements of other priorities, such as developing alternatives to single measure placement strategies mentioned under Priority 1 (Improving Success in Developmental Education) and aligning assessments across secondary and postsecondary institutions mentioned under Priority 4 (Developing and Using Assessments of Learning). The proposed priority would also include setting clear expectations about college for high school seniors and providing data on first-year college students' performance to their high schools.

Another commenter acknowledged that developmental education is a barrier for many students, but added that students encounter challenges even after they have progressed to credit-bearing coursework. The commenter recommended adding a priority to address removing barriers to credit accumulation and progression. As proposed by the commenter, this priority would focus on institutional policies and programs that could be improved to promote completion and could include subparts on redesigning gateway courses, particularly in mathematics, and academic mapping.

Discussion: We agree with the importance of the issues and topics mentioned by the commenters, and believe that the existing priorities address these issues. Therefore, we decline to add additional priorities.

As noted in the NPP, in any FITW competition, we may include priorities from the Department's notice of final supplemental priorities and definitions for discretionary grant programs, published in the Federal Register on December 10, 2014 (79 FR 73425) (Supplemental Priorities). The Supplemental Priorities include priorities on increasing postsecondary success, including academic preparation for and awareness of postsecondary education, and using assessment data to inform classroom practices. Therefore, we do not believe that it is necessary for the Department to develop new priorities to address these areas for the FITW program. In addition, the priorities we establish here would not preclude an eligible applicant from proposing projects that promote cross-sector collaboration, such as between secondary and postsecondary institutions, provided that the proposed project otherwise meets the requirements in the relevant priority. Further, because promoting student success aligns with many of the other priorities, we do not think it is necessary to add a priority to address this topic.

We also do not consider it necessary to create a priority that focuses on barriers to credit accumulation because many of the final priorities encourage applicants to propose new models for promoting degree progression. For example, we include a subpart under Priority 5 (Facilitating Pathways to Credentialing and Transfer) that focuses on credentialing pathways.

Changes: None.

Comment: Two commenters suggested that applicants should be permitted to apply under more than one priority. One stated that an integrated approach to reform is needed to achieve substantial improvements in student outcomes and recommended that applicants be permitted to choose the priorities, or combination of priorities, which they wish to address. Another commenter argued that permitting applicants to address more than one priority would allow applicants to propose more comprehensive solutions to the challenges that inhibit student success.

Discussion: We recognize that the priorities address a complex range of problems in postsecondary education that may necessitate complex and comprehensive solutions. However, the FITW program is designed to generate evidence regarding which interventions most effectively address these problems. In order to demonstrate effectiveness, a project must be evaluable, which may become more difficult as the complexity of the approach increases. Thus, we designed the program to focus on one identified challenge by requiring applicants to address only one of the priorities. Nonetheless, the priorities do not prescribe the intervention or practice that an applicant may propose. Accordingly, although an applicant may apply under only one priority and the application will be evaluated based on how well the applicant addresses that priority, an applicant may propose integrated solutions to the challenges identified in one or more of the priorities. We also note that the Department may choose to apply one or more absolute, competitive preference, or invitational priorities in any future competition in order to generate evidence of the effectiveness of innovative strategies.

Changes: None.

Comment: One commenter recommended that priority be given to projects focused on students who have already been served by college readiness programs, such as Gaining Early Awareness and Readiness for Undergraduate Programs (GEAR UP), so as to leverage the investment that has already been made in these students and increase the likelihood of success.

Discussion: The Department is unable to give preference to grantees in other Federal programs, such as GEAR UP, and be consistent with the priorities which we have established. Nonetheless, applicants may be able to strengthen their proposals based on the other types of support they are providing through other resources to a particular student population before, during, or after the proposed FITW intervention.

Changes: None.

Comment: One commenter argued that the FITW program is too narrowly focused on completion, and that the Department should be concerned about affordability and financial aid. The commenter suggested that the FITW program specify outcomes such as indebtedness after college and labor market outcomes, including salary.

Discussion: We appreciate the commenter's suggestion, but believe the proposed priorities address these concerns. For example, Priority 6 (Increasing the Effectiveness of Financial Aid) could include loan counseling projects. Priorities 4 (Developing and Using Assessments of Learning) and 5 (Facilitating Pathways to Credentialing and Transfer) can be used to align curricula and credentials to career pathways. Priorities 1 (Improving Success in Developmental Education), 2 (Improving Teaching and Learning), 3 (Improving Student Support Services), and 5 all address core issues affecting the cost of higher education. The primary aim of the FITW program is to support projects that will improve the rate of degree and credential completion, but student indebtedness and labor market outcomes may also be addressed.

Changes: None.

Comment: One commenter encouraged the solicitation of proposals aimed at building an institutional culture that supports scaled reforms, strategic partnerships, deep and broad engagement with faculty, staff, and other stakeholders, and constant attention to closing achievement gaps.

Discussion: We believe the priorities, requirements, definitions, and selection criterion that we establish here can be used to address these important goals. For instance, Priority 2 (Improving Teaching and Learning), subpart (iii) speaks specifically to institutional level strategies, and Priority 4 (Developing and Using Assessments of Learning), subpart (ii) speaks to professional development or training of faculty and staff. In addition, the tiers of FITW grants encourage institutional partnerships and provide a continuum for funding that span from initial, localized development to implementation on a national scale. In addition, Priority 9 (Systems and Consortia Focused on Large-Scale Impact) and the selection criterion (Collaboration) encourage applicants to focus on strategic partnerships.

Changes: None.

Comment: One commenter recommended that the Department help make college affordable and accessible for students and their families by decreasing the price of textbooks and increasing financial aid.

Discussion: We think it is important to specify here that FITW grantees may not disburse project funds to students as financial aid. We agree with the commenter that affordability is an important issue that merits attention. However, we think that this topic is addressed in the priorities announced in this document and in the Supplemental Priorities. In FITW Priority 6 (Increasing the Effectiveness of Financial Aid), we encourage projects that improve the effectiveness of existing financial aid funds through counseling, need-based aid, or other strategies. Supplemental Priority 5 (Increasing Postsecondary Access, Affordability, and Completion) includes a subpart for projects that reduce the net cost (e.g., total cost minus financial aid) of college. Open educational resources could additionally be a component of many proposed interventions.

Changes: None.

Priority 1—Improving Success in Developmental Education

Comment: Several commenters suggested that the Department revise this priority to include specific strategies that would support students in developmental education. One commenter recommended that the Department prioritize projects that blend academic with non-academic support systems to track low-income learners in developmental education. Another commenter suggested that younger students would benefit from having multiple teachers. A third commenter offered support for the priority overall and recommended that it include partnerships between adult education programs and institutions of higher education that can address learners' basic skills and English language needs. Finally, one commenter recommended that three particular strategies be given preference: (1) Identifying and treating academic needs prior to postsecondary enrollment; (2) accelerating students' progress by placing them into credit-bearing courses with proper support; and (3) integrating academic and other support for students in developmental education.

Discussion: An applicant may propose any of these strategies to improve student success in developmental education. We expect applicants to consider the needs of their institution and available research from the field when designing an application to address this priority.

Changes: None.

Comment: One commenter expressed support for Priority 1, but suggested that the Department allow grantees flexibility in complying with other regulations if this priority is selected for use in a competition. The commenter raised a concern that grantees could face penalties or barriers to implementing novel ideas and that implementing a project designed to address the priority would be unduly burdensome for support staff.

Discussion: We appreciate the commenter's concerns, but do not believe that the priority creates barriers to implementation of interventions designed to address the challenges identified in the priority. We think it is important to clarify that these priorities correspond to what the Department believes are the greatest challenges in postsecondary education and the areas most in need of innovative ideas to address barriers to postsecondary student success. We also believe that clear communication, strong partnerships, and project leadership are important in order to successfully implement an intervention. While the Department encourages grantees to consider and address these issues, we do not include them specifically in the priorities.

Changes: None.

Comment: One commenter expressed concern that the heavy workload of developmental courses may direct time and energy away from students' other credit-bearing courses, particularly for high-need students. The commenter recommended that the Department calculate for each application the time or opportunity cost to students in developmental courses.

Discussion: We agree that developmental coursework may pose barriers to student success in degree credit-bearing courses. We include a subpart under this priority for projects that redesign developmental courses together with occupational or college-content coursework.

In addition, we note that Requirement 5 (Independent Evaluation) requires all grantees of the FITW program to use part of their budgets to conduct an independent evaluation of their projects. This ensures that projects contribute significantly to improving the information available to practitioners and policymakers about which practices work, for which types of students, and in what contexts. The results of these evaluations will be available to the public. Additionally, two of the performance measures established for the FITW program are cost per participant and cost per successful outcome, so the Department will collect data from grantees on these measures.

Finally, since the ultimate goal is student progress into credit-bearing courses, many pathways could be proposed.

Changes: None.

Comment: One commenter expressed support for the mention of contextualized learning in a subpart under this priority. However, the commenter noted that variations in accreditation and reporting standards across institutions of higher education may inhibit their ability to offer more courses built around contextualized learning.

Discussion: We appreciate the commenter's support and recognize that institutions must attend to a variety of accountability requirements and standards. The subpart mentions contextualized developmental education as one example of a strategy to address this priority.

Changes: None.

Priority 2—Improving Teaching and Learning

Comment: One commenter expressed support for Priority 2. Another commenter echoed this support and suggested that the priority specifically emphasize team teaching and faculty professional development. This commenter pointed out that team teaching has been well researched in elementary and secondary schools and offered recommendations for particular evidence-based strategies to test in postsecondary education.

Discussion: We appreciate the commenters' support for Priority 2. We believe that Priority 2 allows considerable flexibility for applicants to propose innovative strategies to improve teaching and learning. We encourage applicants to use strategies that are based on the demonstrated needs of their institution and on available research in the field.

Changes: None.

Comment: One commenter suggested that Priority 2 include a focus on system-level or consortia-level projects that track learning among transfer students. The commenter argued that this is particularly important for non-traditional learners who are more mobile than traditional learners. According to the commenter, learning could be measured by proficiency development or value-added measures of learning associated with a general education curriculum.

Discussion: We appreciate the commenter's recommendation and agree that collaboration among institutions and other partners can lead to increased student success. We believe these approaches could be addressed in Priorities 4 (Developing and Using Assessments of Learning), 5 (Facilitating Pathways to Credentialing and Transfer), and 9 (Systems and Consortia Focused on Large-Scale Impact).

Changes: None.

Comment: One commenter recommended that we revise Priority 2 to include references to hybrid and flipped teaching models as well as peer-supported learning models, such as supplemental learning and peer tutoring. The commenter suggested that these changes could be added to subpart (b)(ii) or as a new subpart.

Discussion: We thank the commenter for this suggestion. We note that subpart (b)(ii) of Priority 2 includes a focus on online or blended programs. We believe that Priority 2 allows considerable flexibility for applicants to propose innovative strategies to improve teaching and learning.

Changes: None.

Comment: One commenter expressed concern that under-resourced institutions may not have the means to implement innovative strategies. The commenter particularly highlighted the urgency of improving resources for existing programs for high-need students.

Discussion: We thank the commenter for raising this concern. An overall focus of FITW is to improve the resources available to, and the success of, high-need students. The Validation and Scale-up tiers of the competition have the specific goal of increasing the scale and quality of evidence that supports practices that have been demonstrated to work for these students. We also appreciate the commenter's concern regarding the ability of under-resourced institutions to implement innovative strategies. We note that a key feature of the program is an emphasis on encouraging cross-institutional collaborations in order to build on a variety of institutional resources and strengths.

Changes: None.

Priority 3—Improving Student Support Services

Comment: Several commenters expressed strong support for Priority 3 and noted the urgency of expanding the range and number of students served by student support services. One commenter noted that the largest barrier to student success is adjusting to the difference between high school and college. Another commenter suggested that the evidence for student support services is so robust that Priority 3 should be made an absolute priority in future competitions. A third commenter suggested that subpart (b)(iii) should be made an absolute priority.

Discussion: We thank the commenters for their support of Priority 3. We agree that the transition to postsecondary education, whether students enter directly from high school or from the workforce, can be challenging. The goal of this priority is to develop, test, and bring to scale supports to help students through this transitional period as well as during other points along their postsecondary pathways.

In response to the comments suggesting that this priority be used as an absolute priority, we note that the Department has the discretion to use any of these priorities in future FITW competitions. The Department may choose which, if any, of the priorities or subparts are appropriate for a particular competition. If the Department chooses to use these priorities, it also has discretion to decide how they should be designated (i.e., absolute or competitive preference).

Changes: None.

Comment: One commenter suggested that the Department give priority to projects that propose new communication tools, including telephone consulting, well-staffed satellite locations, and extended in-person service hours. Another commenter recommended that technology used to automatically provide supports or services should also include predictive analytics and eligibility screening for multiple public benefits. A third commenter echoed the recommendation for the use of predictive analytics.

Discussion: We appreciate the commenters' suggestions for strategies to improve outreach about support services. We decline to make the proposed changes because we believe these suggestions are adequately addressed in Priority 3. Furthermore, we include predictive analytics as a possible strategy under subpart (b)(ii) of Priority 3.

Changes: None.

Comment: Two commenters recommended that the Department emphasize projects that connect students to a range of financial supports. One commenter encouraged the Department to include projects that integrate education and training, income and work supports, and financial services and asset building for low-income students. Another commenter suggested that resources and services should also include connecting students to financial counseling.

Discussion: We agree that financial supports are an important type of student support service. We decline to include the proposed strategies in Priority 3, however, because we believe that the goal of connecting students to financial resources is adequately addressed in the priorities. Subpart (b)(iii) of Priority 3 mentions providing assistance in accessing government benefits and other resources. In addition, subpart (b)(i) of Priority 6 (Increasing the Effectiveness of Financial Aid) focuses on financial literacy counseling and resources.

Changes: None.

Comment: One commenter recommended that Priority 3 recognize that lesbian, gay, bisexual, and transgender (LGBT) students face unique challenges. The commenter noted that LGBT students need specifically tailored supports both before and during their postsecondary education. The commenter strongly urged the Department to prioritize proposals that include culturally competent services for LGBT students.

Discussion: As mentioned in the NPP, Priority 3 is designed to support investments in strategies that are most likely to increase access to effective student services, particularly for individuals from groups that have been historically under-served in postsecondary education. These individuals may include, but are not limited to, adult learners, students from low-income backgrounds, students of color, and LGBT students. We further note that recipients of Department funding must comply with the nondiscrimination requirements of Title VI of the Civil Rights Act of 1964, Section 504 of the Rehabilitation Act of 1973, Title IX of the Education Amendments of 1972, and the Age Discrimination Act of 1975. For additional information and assistance on civil rights laws that may impose additional requirements on recipients and subrecipients of Federal financial assistance, please consult the “Notice on Civil Rights Obligations Applicable to the Distribution of Funds under the American Recovery and Reinvestment Act of 2009,” which is available at www2.ed.gov/policy/gen/leg/recovery/notices/civil-rights.html.

Changes: None.

Comment: One commenter encouraged the Department to include a focus on improving outcomes for high-achieving, low-income students as a subpart of Priority 3 or as a new priority. The commenter noted that low-income students are less likely to attend selective postsecondary institutions and that the majority of high-achieving, low-income students do not apply to any selective institutions.

Discussion: We appreciate the commenter's suggestion and concur that strategies to support low-income students merit attention. We note that Requirement 1 (Innovations that Improve Outcomes for High-Need Students) focuses on students from low-income backgrounds, among other high-need student populations. Because this requirement would apply to all grantees, regardless of the priority to which they responded in their applications, we do not believe it is necessary to make the proposed change.

Changes: None.

Comment: Two commenters offered suggestions for specific strategies to improve student advising services. One commenter requested that we revise subpart (b)(ii) to include holistic advising models that incorporate multiple factors for determining college readiness and academic placements. The commenter also suggested that we revise subpart (b)(ii) or (b)(iii) to include career advising to assist students in choosing a major or program of study.

A second commenter also supported the addition of holistic advising models in Priority 3. This commenter recommended that the Department add a focus on collaboration with employers and other workforce partners, including an explicit mention of work-based learning opportunities. The commenter suggested that Priority 3 include the following strategies: Career counseling during initial advising sessions, student supports focused on non-cognitive factors and students' external responsibilities, the use of credential pathways or maps, peer-to-peer supports, cohort-based approaches, and case management approaches.

Discussion: We thank the commenters for their suggestions. There is a wide range of possible strategies to improve student support services. The aim of Priority 3 is to support projects that are subject to rigorous tests to determine which of these strategies effectively improve student outcomes, particularly outcomes related to access, persistence, and completion. We decline to make the proposed revisions because we do not believe it is appropriate for the Department to prescribe which strategies applicants should use to achieve these goals.

Changes: None.

Priority 4—Developing and Using Assessments of Learning

Comment: Two commenters expressed strong support for Priority 4. One commenter suggested that this priority could be made more inclusive by adding specific strategies to serve students with disabilities and students who are English learners. Another commenter emphasized the importance of using educational games for formative assessments. A third commenter recommended that we add assessments that measure co-curricular learning, such as civic engagement and critical thinking skills, under subpart (b).

Discussion: We appreciate the commenters' support for Priority 4. We agree that there are many innovative strategies to assess a variety of student learning outcomes and that strategies under this and all of the priorities should be inclusive of all students. We note that students who are English learners are explicitly included in the illustrative list of examples included in the definition of “high-need student.” Students with disabilities could also be considered high-need, assuming the students are at risk of educational failure or otherwise in need of special assistance or support. We also note that all recipients of Department funds must comply with the nondiscrimination requirements of Title VI of the Civil Rights Act of 1964, Section 504 of the Rehabilitation Act of 1973, Title IX of the Education Amendments of 1972, and the Age Discrimination Act of 1975.

Changes: None.

Comment: One commenter requested a definition of “open-source assessments.”

Discussion: Although the Department does not define open-source assessments, in the FITW program we may invite applicants to develop assessments of learning that are free and available for others to use and refine. We decline to further define the types of assessments that applicants may propose.

Changes: None.

Comment: One commenter recommended that the Department revise subpart (b)(ii) to include additional stakeholders who may be responsible for student assessments and to elaborate on different assessment types. Specifically, the commenter suggested that the priority include student services personnel and mention diagnostic, formative, and summative assessments.

Discussion: We appreciate the commenter's suggestion. While faculty are primarily responsible for assessing student learning in the classroom, staff may also take part in assessing student learning in other settings, such as knowledge and competencies gained through prior work experience. We do not wish to impose limitations on applicants by specifying the types of allowable assessments, but we have revised the priority to refer to the roles of staff in assessment activities.

Changes: We have revised Priority 4, subpart (b)(ii) to add a reference to professional development for staff, as well as faculty.

Priority 5—Facilitating Pathways to Credentialing and Transfer

Comment: Several commenters expressed strong support for Priority 5 and its subparts. One commenter agreed that alternative credentialing and badging frameworks are needed. Another commenter noted that there is mounting support and evidence for credit for prior learning and opportunities for students to earn credits prior to enrolling in postsecondary education. Echoing this support for prior learning credits, a third commenter suggested that we could strengthen this priority by clarifying that prior learning assessments and other similar strategies are included under this subpart.

Discussion: We appreciate the commenters' support. We agree that alternative credentialing frameworks and credit for prior learning are promising strategies to recognize student learning and ensure that students reach completion. However, we decline to make the suggested changes because we believe that they are adequately addressed in the existing subparts of the priority. The Department does not wish to limit the types of interventions that applicants might propose through further specification.

Changes: None.

Comment: A commenter requested that the Department include under subpart (b)(ii) the validation and transfer of credentialing or badging frameworks.

Discussion: Projects designed to create or refine credentialing or badging frameworks could be proposed under this priority. We decline to make the requested change in order to avoid being overly prescriptive about how to improve pathways to credentialing and transfer.

Changes: None.

Comment: Noting that many students pursue postsecondary education and training that prepares them for careers, one commenter recommended that Priority 5 explicitly mention strategies to improve career pathways. Such strategies could include embedding work-based learning in credentialing pathways and developing career pathways for high school students, disconnected youth, and adult learners.

Discussion: We thank the commenter for this suggestion. We agree that career preparation is indeed a motivating factor for many postsecondary students. The goal of this priority is to develop innovative strategies to accelerate completion of a wide range of credentials, including portable, stackable credentials aligned to career pathways, as well as specific pathways for individuals who have traditionally been underserved in postsecondary education. We believe the priority adequately reflects this goal.

Changes: None.

Comment: One commenter suggested that we expand what we mean by seamless transfer of credits to include the transfer of postsecondary credits between all postsecondary institutions within and across States. The commenter also recommended that this priority emphasize that credits should be applicable at the receiving institution, and not simply transferrable. Furthermore, the commenter urged us to include strategies that track student mobility and performance across institutions.

Discussion: We appreciate the commenter's suggestions. We decline to make the proposed changes because several priorities already address the commenter's recommendations. For example, the transfer of credits between institutions is mentioned under subpart (b)(i) of Priority 5 and is not restricted to institutions in the same State. In addition, multi-site strategies are addressed under Priority 9 (Systems and Consortia Focused on Large-Scale Impact).

We are not certain what the commenter intends by referring to credits that are applicable rather than simply transferrable. However, the aim of Priority 5 is to ensure that students accelerate progress towards a degree or credential. Thus, we assume that strategies to improve credit transfer would address how credits would be applied towards this end.

Changes: None.

Priority 6—Increasing the Effectiveness of Financial Aid

Comment: Many commenters expressed support for Priority 6. Two commenters recommended focusing on this priority in future FITW competitions. Another commenter noted that there is a sufficient number of relevant evidence-based strategies to warrant making this an absolute priority.

Discussion: We appreciate the commenters' strong support for Priority 6. We agree that there is a substantial body of evidence on the effectiveness of financial aid, and we hope that this evidence will be useful to potential applicants. However, these priorities are intended as a menu of options for future FITW competitions. The Department may choose which, if any, of the priorities or subparts are appropriate for a particular competition. We note that the Department may choose to designate any of these priorities as absolute, competitive preference, or invitational in a given FITW competition, and that these designations may change in future competitions.

Changes: None.

Comment: One commenter urged the Department to create a competitive preference priority for historically black colleges and universities (HBCUs) that would apply to Priority 6 (“Increasing the Effectiveness of Financial Aid”).

Discussion: We recognize the critical role that minority-serving institutions (MSIs), including HBCUs, play in helping our country meet the demand for more postsecondary degrees and credentials. Priority 8 (Improving Postsecondary Student Outcomes at Minority-Serving Institutions) addresses issues at those institutions specifically, and this includes HBCUs.

Changes: None.

Comment: Several commenters recommended specific strategies to increase the effectiveness of financial aid. One commenter suggested that the Department prioritize projects that use restricted access financial aid data or flexible need-based aid. A second commenter suggested one-stop shops for financial aid counseling and resources to access other public benefits. A third commenter recommended that the Department focus on projects that expand or restructure institutional aid programs. Finally, a fourth commenter recommended including projects that aim to simplify financial aid and test need-plus-merit aid.

Discussion: We thank the commenters for these suggestions. Because these projects are permissible under the priority as written, and because we want to ensure applicants have as much flexibility as possible in designing their proposed strategies, we decline to make the proposed changes.

Changes: None.

Comment: One commenter recommended that Priority 6 focus on students with the greatest financial need.

Discussion: We appreciate the commenter's suggestion and concur that college affordability is a pressing problem for students with limited financial resources. This priority aims to simplify access to much needed financial supports, particularly those that will have a meaningful impact on completion. We do not specify the categories of students that must be served in this or in any other priority. However, Requirement 1 (Innovations that Improve Outcomes for High-Need Students) directs applicants to focus on “high-need students,” defined in this document to include students at risk of educational failure or otherwise in need of special assistance and support. The Department has the discretion to select this and other requirements and priorities in future FITW competitions. If the Department applies this requirement in a future FITW competition, grantees would be required to indicate that they are focused on high-need students in response to all priorities that they choose to address. We believe that this requirement addresses the commenter's concerns and goals.

Changes: None.

Priority 7—Implementing Low Cost-High Impact Strategies To Improve Student Outcomes

Comment: Two commenters expressed support for Priority 7. The commenters recommended that the Department require all future grantees to use low cost-high impact strategies.

Discussion: We thank the commenters for this expression of support and concur that this is an important consideration. The Department has the discretion to decide which priorities to use in a given year, as well as how to designate those priorities (i.e., absolute, competitive preference, or invitational), and may consider the commenters' suggestion in the future.

Changes: None.

Comment: Two commenters addressed strategies that use technology in Priority 7. One commenter recommended adding projects that examine whether access to technology is a barrier to effectively implementing low cost-high impact strategies. Another commenter noted that strategies that use technology are not always low cost, and recommended adding strategies that do not require technology, such as peer mentoring.

Discussion: We appreciate these commenters' suggestions. We note that projects that use technology to minimize cost are just one example under Priority 7. We believe that applicants are best able to determine how to meet this priority and that the priority does not limit the way that applicants may propose to use technology, if they choose to do so.

Changes: None.

Comment: One commenter recommended that the Department require grantees to track both costs and benefits of their projects. This would allow grantees to calculate the return on investment (ROI) for their project, which could be included in their evaluation. The commenter noted that the Leveraging What Works program, proposed in the Department's Fiscal Year 2016 Budget, would require grantees to annually report per-pupil expenditures and student outcomes in order to calculate ROI for selected interventions.

Discussion: We thank the commenter for this recommendation. A primary goal of the FITW program is to develop and replicate best practices in postsecondary education. As the commenter noted, FITW grantees are already required to conduct an independent evaluation of student outcomes, as described in Requirement 5 (Independent Evaluation) of this notice. We allow grantees and their independent evaluators to determine what should be included in this evaluation, provided that it is designed to meet relevant What Works Clearinghouse (WWC) Evidence Standards if well-implemented, as described in Requirement 6 (Evaluation Design). We also note that the Department establishes FITW performance measures, including cost per participant and cost per successful outcome.

Changes: None.

Comment: One commenter requested that we include subparts under Priority 7. The commenter noted that this would help applicants understand the goal of the priority.

Discussion: We appreciate the commenter's recommendation. The goal of this priority is to solicit projects that make efficient use of resources. The Department could also choose to use this priority in combination with other priorities. To ensure that we do not limit or narrow the types of projects that could be submitted under this priority, we decline to provide a specific list of tools to meet this goal. We also note that, in a particular competition, we can use this priority in combination with other priorities established in this NFP.

Changes: None.

Priority 8—Improving Postsecondary Student Outcomes at Minority-Serving Institutions

Comment: Several commenters expressed support for Priority 8. One commenter noted that the structure of the FITW program, in which awards can be made as Development, Validation, or Scale-up grants, makes it important for the Department to fund a diverse range of institutions, including two-year, four-year, public, and private non-profit institutions, and MSIs. Another commenter recommended that this priority be included as a competitive preference priority.

Discussion: We thank these commenters for their support. MSIs play a critical role in the country's postsecondary education system and in meeting our goal of again becoming first in the world in postsecondary attainment. In future competitions, the Department may choose to designate this priority as an absolute or competitive preference priority.

Changes: None.

Comment: One commenter recommended that the Department prioritize projects that define, operationalize, and measure outcomes for high-need student subpopulations under this priority.

Discussion: We agree that it is important to examine outcomes for high-need students, which is why the FITW program includes evaluation requirements (Requirements 5 and 6). The evaluation process helps grantees focus on which students are served by a particular intervention, as well as how they are served. We also include a definition of “high-need student” that illustrates specific student subpopulations that fall in this category. We believe that the requirement and definition meets the commenter's objectives, and that no further changes are necessary.

Changes: None.

Comment: One commenter recommended that we expand this priority to include institutions that serve large numbers of low-income students. The commenter suggested that these institutions could be defined by the percentage of students who receive Pell grants or other forms of Federal student financial aid.

Discussion: We agree that it is important to support low-income students and aim to do so through other aspects of this program. Students from low-income backgrounds are included in the definition of “high-need students.” Requirement 1 (Innovations that Improve Outcomes for High-Need Students) also addresses the needs of this group. In contrast to MSIs, which have a distinct mission and tradition of serving particular student populations, institutions that serve large numbers of students from low-income backgrounds fall into many different categories. Indeed, some MSIs might also meet the criteria the commenter has suggested. Nothing in this priority precludes these institutions from participating or disadvantages them in the competition. To make sure that this priority addresses the intended issues, we decline to further expand it.

Changes: None.

Priority 9—Systems and Consortia Focused on Large-Scale Impact

Comment: One commenter requested that the Department prioritize projects that track matriculation and transfer patterns within and between institutions within a postsecondary system or consortium.

Discussion: The aim of this priority is to encourage institutions and systems to collaborate to address key barriers to completion. While transfer certainly can be a barrier for some students, we feel that this issue is addressed under Priority 5 (Facilitating Pathways to Credentialing and Transfer). Priority 9 does not suggest particular strategies that systems and consortia should address, but rather a particular method by which to strengthen any given strategy or approach proposed by the applicant.

Changes: None.

Comment: One commenter encouraged us to give additional points to consortia of institutions that use robust learning communities to share knowledge and disseminate best practices.

Discussion: We thank the commenter for this suggestion. The purpose of the FITW program is to develop and disseminate best practices in postsecondary education. As the commenter noted, learning communities are a promising method for sharing knowledge with others. However, we decline to make the commenter's suggested change because we wish to provide applicants with the flexibility to determine which methods of developing strong consortia would be most appropriate.

Changes: None.

Comment: Noting that applicants typically have between 30 and 60 days to submit an application after a notice inviting applications (NIA) is published, one commenter expressed concern that the open application period is too short to create consortia-based projects. The commenter suggested that the Department announce the focus of the competition in advance of the NIA. Alternatively, the Department could provide information for several years' competitions at once. This would allow consortia time to develop applications that meet the necessary evidence and large-scale impact requirements.

Discussion: The Department appreciates the work that applicants put into developing high-quality projects for this and other grant programs. We strive to provide as much time as possible to allow applicants to prepare their submissions. Indeed, one of our goals in developing these priorities was to provide greater overall guidance to potential applicants. Unfortunately, the constraints and timing of the annual budget and appropriations cycle do not permit us to provide information about multiple years of a grant program at one time.

Changes: None.

Comment: One commenter expressed strong support for Priority 9, noting that once an evidence base is established, large-scale reforms are most efficiently accomplished through systems. The commenter requested that we add a focus on State policy. Each grantee would be required to develop a policy work plan and identify several key levers needed to build support for and eliminate barriers to system redesign, scale, and student success.

Discussion: We appreciate the commenter's support and suggestions. States are critical partners in postsecondary education, and although policy work is not within the scope of this program, we encourage grantees to consider ways to collaborate with State and local stakeholders in their work. Priorities 4 (Developing and Using Assessments of Learning) and 5 (Facilitating Pathways to Credentialing and Transfer) both include a focus on systemic approaches and building partnerships. We believe applicants are best positioned to determine how to build these relationships, and thus we decline to make the specific additions requested.

Changes: None.

Comment: One commenter suggested that we give preference to consortia that include MSIs or institutions serving large numbers of students of color.

Discussion: We appreciate the commenter's suggestion. The FITW program encourages the work of these institutions through Priority 8 (Improving Postsecondary Student Outcomes at Minority-Serving Institutions) as well as through the definition of “high-need student,” which includes students of color. The Department does not believe that it is necessary to establish a priority for a particular kind of consortium because the Department could choose to combine Priority 9 with Priority 8 (Improving Postsecondary Student Outcomes at Minority-Serving Institutions). We believe such an approach would adequately address the commenter's concern.

Changes: None.

Comment: One commenter requested that State agencies of higher education be included as eligible applicants. According to the commenter, consistent with the purposes of Priority 9, these agencies offer access to statewide data, can identify statewide areas of need, and are able to coordinate partnerships among institutions.

Discussion: State higher education agencies have an important voice in postsecondary education systems and are eligible to apply for FITW grants. Eligible applicants for FITW, as described in this document, include an institution of higher education, combinations of such institutions, and other public and private nonprofit institutions and agencies.

Changes: None.

Comment: One commenter expressed support for Priority 9 and recommended that the Department consider how it might be applied to Validation and Scale-up grants. The commenter pointed out that the NPP suggests that this priority would only apply to Development grants. However, the commenter suggested that partners and collaborators could also help in expanding and adapting evidence-based strategies.

Discussion: We thank the commenter for raising this point. To clarify, the Department may choose to use any of the priorities established in this notice in a competition for any type of FITW grant (Development, Validation, or Scale-up). Although the NPP included a background section for Priority 9 that mentioned differences between types of grants, this was not intended to suggest that one type of grant would be better suited for this priority.

Changes: None.

Requirements

Requirements—General

Comment: One commenter noted that we stated in the NPP that the Department may use requirements, selection criteria, and definitions from the Education Department General Administrative Regulations (EDGAR). This commenter encouraged us to use EDGAR's evidence definitions and regulations supporting the use of evidence, data, and evaluation.

Discussion: We appreciate the commenter's suggestion. For FITW, the Department is permitted to use the evidence definitions and regulations in EDGAR as well as those established in this document. Thus, the Department may exercise the flexibility allowed by 34 CFR 75.226 (What procedures does the Secretary use if the Secretary decides to give special consideration to applications supported by strong evidence of effectiveness, moderate evidence of effectiveness, or evidence of promise?) to give competitive preference or establish a separate competition for applications supported by evidence of promise, moderate evidence of effectiveness, or strong evidence of effectiveness. The Department may also decide to use evidence-related selection criteria in 34 CFR 75.210. However, any use of those requirements, selection criteria, and definitions will be described in the notice inviting applications.

Changes: None.

Requirement 1—Innovations That Improve Outcomes for High-Need Students

Comment: Many commenters expressed strong support for this requirement. One commenter recommended that grantees be required to focus on low-income students and students of color. Two commenters urged us to emphasize projects that enroll and graduate low-income, first-generation, and underprepared students. One commenter asked the Department to include this requirement in all FITW competitions.

Discussion: We thank the commenters for their support for this requirement. We concur that high-need students deserve better outcomes, and the FITW program aims to support the development and dissemination of tools that improve outcomes for these students in a variety of ways. The Department will consider whether to include this requirement in each year's competition. We also note that we allow applicants to determine which student subpopulations they will serve, and that low-income students and students of color are included as examples of student subpopulations in the definition of “high-need student.” This definition also includes an illustrative list of groups that face unique challenges, such as adult learners, working students, part-time students, students from low-income backgrounds, students of color, first-generation students, students with disabilities, and students who are English learners. We are adding “students with disabilities” to the illustrative list in the definition of “high-need student” for consistency with other ED programs, as discussed under Definitions.

Changes: None.

Comment: Stating that a focus on high-need students is timely, one commenter urged the Department to consider how these students are served by two-year institutions. These institutions vary in their size, location, and capacities, but many perform at the same level as their peers at four-year institutions.

Discussion: The Department appreciates the key role of two-year institutions in serving many of our country's high-need students. Two-year institutions were among the FITW recipients in the FY 2014 competition and we encourage such institutions to apply in future competitions. Because two-year institutions are eligible to apply for FITW grants, we do not believe it is necessary to revise this requirement to address them specifically.

Changes: None.

Comment: One commenter requested that the Department provide clarification on the definition of “innovation” in Requirement 1. For Validation and Scale-up grants, the commenter asked whether projects that make adjustments to proven programs in order to reduce costs would meet this requirement. In addition, the commenter asked whether the planned execution of an intervention constitutes an innovation.

Discussion: We thank the commenter for raising this issue for clarification. For the purposes of the FITW program, we define “innovation” to mean a process, product, strategy, or practice that improves (or is expected to improve) significantly upon the outcomes reached with status quo options and that can ultimately reach widespread effective usage. This definition is consistent with the definition used in the Investing in Innovation (i3) program, which is FITW's elementary and secondary education counterpart.

Changes: We have added a definition of the term “innovation” to the Definitions section of this notice.

Requirement 2—Eligibility

Comment: One commenter expressed enthusiasm for the inclusion of public and private non-profit agencies as eligible applicants. Another commenter asked for clarification of the definition of “non-profit agencies.”

Discussion: We thank the commenter for this support. We intend to use the EDGAR definition of “nonprofit” in 34 CFR 77.1: “Nonprofit, as applied to an agency, organization, or institution, means that it is owned and operated by one or more corporations or associations whose net earnings do not benefit, and cannot lawfully benefit, any private shareholder or entity.” This definition will be included in any NIA that includes this requirement.

Changes: None.

Comment: One commenter asked for State systems of higher education to be considered eligible applicants. The commenter noted that these systems have a unique advantage in conducting rigorous evaluations due to their access to large numbers of students and robust datasets.

Discussion: State higher education agencies have an important voice in postsecondary education systems and are eligible to apply for FITW grants. Eligible applicants for FITW include an institution of higher education, combinations of such institutions, and other public and private nonprofit institutions and agencies.

Changes: None.

Requirement 3—Types of FITW Grants

Comment: One commenter requested that the Department specify that Scale-up grants include projects that use predictive analytics.

Discussion: We appreciate the commenter's suggestion, but decline to make this change. The purpose of this section is to identify types of grants, rather than define specific projects they could include. Several of the priorities could incorporate use of predictive analytics.

Changes: None.

Comment: Two commenters questioned our description of Development grant projects in the background section of the NPP as “novel.” One commenter asked us to clarify that innovations included in Development grant projects may not always be novel, but rather best practices that are brought to scale. The commenter suggested that projects should be required to innovate significantly from current design. Another commenter asked for examples of projects that would be considered novel and yet are supported by empirical evidence.

Discussion: We thank the commenters for these suggestions. As discussed above, we have added a definition of “innovation” in order to clarify expectations for projects under all grant types. The rationale for adding this definition is discussed elsewhere in this document. We believe that this definition clarifies the Department's expectations for the ways in which projects should differ from current design and can help applicants determine which types of projects would be considered novel and are supported by empirical evidence

Changes: We have added a definition of the term “innovation” to the Definitions section of this notice.

Comment: One commenter asked us to clarify whether rigorous evaluations, such as the use of randomized controlled trials, are the preferred methodology for conducting independent evaluations of Development grant projects.

Discussion: Requirements 4 (Evidence and Sample Size Standards) and 5 (Independent Evaluation) address expectations for evaluations of all types of grants. Further, Requirement 6 (Evaluation Design) is designed to indicate that the Secretary announces in the NIA which evaluation standard applies to which grant type.

Changes: None.

Comment: One commenter asked us to further clarify the difference between Validation and Scale-up grants. The commenter asked whether projects that replicate and adapt proven programs in new locations (for example, throughout colleges in a State or at several colleges in a system) would qualify for a Validation or a Scale-up grant.

Discussion: The primary difference between a Validation and a Scale-up grant lies in the level of evidence supporting the proposed project. Validation grants must be supported by moderate evidence of effectiveness as defined in 34 CFR 77.1(c) whereas Scale-up grants would likely be supported by strong evidence of effectiveness, as defined in 34 CFR 77.1(c). Additionally, Scale-up grants would apply to projects with a larger number of sites, a greater variety of contexts, and a greater variety of students than Validation grants. These differences are explained in the Background section of the NPP.

Changes: None.

Requirement 4—Evidence and Sample Size Standards

Comment: One commenter asked us to clarify how the term “multi-site” is defined for Scale-up grants. The commenter asked whether a project that includes multiple colleges within the same system or multiple campuses within the same institution would meet the multi-site requirement.

Discussion: In 34 CFR 77.1, we define “multi-site sample” as “more than one site, where site can be defined as an LEA, locality, or State.” Subpart (d) of Requirement 4 further clarifies that a multi-site sample can include multiple institutions, while a scaled multi-site sample can include sites across a system of institutions, or across institutions in a State, region, labor market sector, or nationwide. We will announce in the NIA for any given FITW competition which requirement will apply to the Scale-up tier.

Changes: None.

Comment: One commenter asked for further clarification on overlapping samples as used for Scale-up grants. The commenter asked to what extent and along what dimensions populations should be required to overlap with the sample in a supporting study.

Discussion: We refer the commenter to subpart (e) of Requirement 4, which clarifies that projects must include the core aspects of a process, product, strategy, or practice from a supporting study as closely as possible. If the project proposes to adapt an intervention from a study, the applicant must provide justifications for these changes. It is the applicant's responsibility to determine whether and to what extent the population in the supporting study was a core aspect of its implementation.

Changes: None.

Comment: One commenter asked the Department to consider expanding the evidence requirements beyond the WWC Evidence Standards. The commenter suggested that evidence could be based on rigorous assessments with strong designs conducted by reputable evaluators.

Discussion: We thank the commenter for this suggestion. We note that the evidence standards included in this program meet the commenter's objectives. These standards include rigorous assessments, strong designs, and reputable evaluators. The evidence standards we use in the FITW program are consistent with EDGAR and are used widely across the Department's discretionary grant programs. We choose to use the WWC Evidence Standards so that this program can produce evidence of the highest possible quality. The WWC Evidence Standards were developed based on years of interaction with leading experts in program evaluation in the education field.

Changes: None.

Requirement 5—Evaluation

Comment: One commenter requested that we require grantees to report disaggregated student outcome data. At a minimum, the commenter proposed that we require data to be disaggregated by outcomes for low-income students and students of color. In addition, the commenter suggested that we require grantees to report outcomes for other high-need student populations.

Discussion: We thank the commenter for this suggestion. We agree that useable data on outcomes for high-need student subpopulations are critical to improving programs and services. However, we decline to make the proposed changes because this may not be possible or appropriate for all projects. We also note that the Department has established performance measures for FITW, including cost per successful outcome.

Changes: None.

Comment: None.

Discussion: Through the FITW program, the Department seeks to fund projects that can make a significant contribution to increasing knowledge about effective strategies for improving postsecondary education outcomes. For this reason, all FITW projects are required to use part of their budgets to conduct independent evaluations of their projects. Evaluation design is a significant consideration in ensuring that the independent evaluations help build evidence of effectiveness and generate replicable results. For that reason, we proposed in Requirement 5 that, in connection with the requirement that grantees conduct an independent evaluation, the evaluation design meet What Works Clearinghouse Evidence Standards. Although we believe that meeting these evidence standards is the best way to ensure a rigorous evaluation, we also recognize that these evaluation and evidence requirements may be new to many potential FITW applicants. Furthermore, through the selection criteria established in EDGAR, we can encourage applicants to propose rigorous project evaluations through the What Works Clearinghouse selection factors. Such an approach, which enables the Department to rely on the judgment of non-Federal reviewers with expertise in evaluation design without imposing a pass-fail requirement, may be preferable in any given year, particularly in the early years of this program. Accordingly, we believe that it would benefit potential applicants for the Department to retain the authority to use the independent evaluation requirement without using the requirement relating to evaluation design. We have clarified this distinction in the requirements.

Changes: We have separated proposed Requirement 5 into two requirements—Requirement 5, relating to the independent evaluation requirement, and Requirement 6, relating to evaluation design. We have renumbered the remaining requirements, accordingly.

Definitions

High-Need Student

Comment: One commenter recommended that the Department clarify the definition of “high-need student” to ensure that projects focus on low-income, first-generation, and academically underprepared students.

Discussion: We appreciate the commenter's concern that these students face unique challenges. However, we believe that the proposed definition of “high-need student” adequately includes the recommended student groups. The definition included in the NPP includes students who are at risk of educational failure, which could include students from low-income backgrounds and first-generation students. This definition also includes an illustrative list of groups that face unique challenges, such as adult learners, working students, part-time students, students from low-income backgrounds, students of color, first-generation students, students with disabilities, and students who are English learners. Very similar definitions are used in other Department programs, including i3 and Race to the Top, as well as in the Supplemental Priorities. We use the same definition in order to maintain consistency across multiple programs. We are adding “students with disabilities” to the illustrative list in the definition of “high-need student” for consistency with other ED programs.

Changes: We have added “students with disabilities” to this definition.

Minority-Serving Institution

Comment: Two commenters addressed the definition of MSI. One commenter asserted that, similar to MSIs, community colleges enroll and serve a disproportionate number of high-need students. The commenter asked the Department to consider the unique operational issues of two-year colleges, even though they may not have the requisite enrollments of students of color to qualify as MSIs.

Another commenter proposed, in lieu of the definition for MSI, a new definition for Institutions with Large-Scale Impact for Minority Students. This proposed definition would refer to two-year or four-year institutions with sufficient capacity to affect large-scale change for Black, Latino, or American Indian students. The commenter proposed that an institution would be considered to have sufficient capacity under this definition if it enrolled at least 3,000 Black, Latino, or American Indian students.

Discussion: The definition of MSI comes from the Higher Education Act of 1965, as amended (HEA), and our intent is to be consistent with the law. We appreciate the commenters' interest in serving high-need students. We also agree that community colleges play a critical role in serving high-need students across the country. In addition, many community colleges are in fact MSIs. However, we decline to make the proposed changes to the definition of MSIs. Nothing in this definition, the priorities, or the authorizing statute prohibits eligible community colleges, regardless of MSI status, from applying to FITW programs, provided that the proposed project otherwise meets the requirements.

Changes: None.

Selection Criterion—Collaborations

Comment: One commenter supported this selection criterion. The commenter recommended that we include more specific emphasis on cross-functional collaborations and holistic program design, to promote continuous improvement and foster institutional cultures that embrace feedback.

Discussion: We thank the commenter for this suggestion. We agree that these types of collaborations can foster success. However, we believe that applicants are best equipped to design the collaborative structures that meet their needs.

Changes: None.

Final Priorities

Priority 1: Improving Success in Developmental Education

The Secretary gives priority to:

(a) Projects designed to improve student success in developmental education or accelerate student progress into credit-bearing postsecondary courses; or

(b) Projects designed to improve student success in developmental education or accelerate student progress into credit-bearing postsecondary courses through one or more of the following:

(i) Identifying and treating academic needs prior to postsecondary enrollment, including while in middle or high school, through strategies such as partnerships between K-12 and postsecondary institutions;

(ii) Diagnosing students' developmental education needs at the time of or after postsecondary enrollment, such as by developing alternatives to single measure placement strategies, and identifying specific content gaps in order to customize instruction to an individual student's needs;

(iii) Offering alternative pathways in mathematics, such as non-Algebra based coursework for non-math and science fields;

(iv) Accelerating students' progress in completing developmental education, through strategies such as modularized, fast-tracked, or self-paced courses or placing students whose academic performance is one or more levels below that required for credit-bearing courses into credit-bearing courses with academic supports;

(v) Redesigning developmental education courses or programs through strategies such as contextualization of developmental coursework together with occupational or college-content coursework; and

(vi) Integrating academic and other supports for students in developmental education.

Priority 2: Improving Teaching and Learning

The Secretary gives priority to:

(a) Projects designed to improve teaching and learning; or

(b) Projects designed to improve teaching and learning through one or more of the following:

(i) Instruction-level tools or strategies such as adaptive learning technology, educational games, personalized learning, active- or project-based learning, faculty-centered strategies that systematically improve the quality of teaching, or multi-disciplinary efforts focused on improving instructional experiences.

(ii) Program-level strategies such as competency-based programs that are designed with faculty, industry, employer, and expert engagement, use rigorous methods to define competencies, and utilize externally validated assessments, online or blended programs, or joint offering of programs across institutions.

(iii) Institution-level tools or strategies such as faculty-centered strategies to improve teaching across an institution, use of open educational resources, or tailoring academic content and delivery to serve the needs of non-traditional students.

Priority 3: Improving Student Support Services

The Secretary gives priority to:

(a) Projects designed to improve the supports or services provided to students prior to or during the students' enrollment in postsecondary education; or

(b) Projects designed to improve the supports or services provided to students prior to or during the students' enrollment in postsecondary education through one or more of the following:

(i) Integrating student support services, including with academic advising and instruction.

(ii) Individualizing or personalizing support services, such as advising, coaching, tutoring, or mentoring, to students and their identified needs using tools or strategies such as predictive analytics to identify students who may need specific supports, or behavioral interventions used to provide timely, relevant, and actionable information for students at critical points such as when they may be at risk of dropping out.

(iii) Connecting students to resources or services other than those typically provided by postsecondary institutions, such as providing assistance in accessing government benefits, transportation assistance, medical, health, or nutritional resources and services, child care, housing, or legal services.

(iv) Utilizing technology such as digital messaging to provide supports or services systematically.

Priority 4: Developing and Using Assessments of Learning

The Secretary gives priority to:

(a) Projects that support the development and use of externally validated assessments of student learning and stated learning goals; or

(b) Projects that support the development and use of externally validated assessments of student learning and stated learning goals through one or more of the following:

(i) Alternative assessment tools or strategies such as micro- or competency-based assessments, assessments embedded in curriculum, or simulations, games, or other technology-based assessment approaches.

(ii) Professional development or training of faculty and staff on the approaches to developing, using, and interpreting assessments.

(iii) Combining or sequencing assessments from multiple sources to strengthen diagnostic capabilities.

(iv) Aligning assessments across sectors and institutions, such as across kindergarten through grade 12 and postsecondary education systems or across two-year and four-year institutions, to improve college readiness and content delivery.

(v) Open-source assessments.

Priority 5: Facilitating Pathways to Credentialing and Transfer

The Secretary gives priority to:

(a) Projects designed to develop and implement systems and practices to capture and aggregate credit or other evidence of knowledge and skills towards postsecondary degrees or credentials; or

(b) Projects designed to develop and implement systems and practices to capture and aggregate credit or other evidence of knowledge and skills towards postsecondary degrees or credentials through one or more of the following:

(i) Seamless transfer of credits between postsecondary institutions.

(ii) Validation and transfer of credit for learning or learning experiences from non-institutional sources.

(iii) Alternate credentialing or badging frameworks.

(iv) Opportunities for students to earn college credits prior to postsecondary enrollment, such as through dual enrollment, dual degree, dual admission, or early college programs.

Priority 6: Increasing the Effectiveness of Financial Aid

The Secretary gives priority to:

(a) Projects designed to improve the effectiveness of financial aid; or

(b) Projects designed to improve the effectiveness of financial aid through one or more of the following:

(i) Counseling, advising, creation of information and resources, and other support activities on higher education financing and financial literacy delivered by financial aid offices or integrated with other support services provided by institutions, including on student loan repayment options such as income-driven repayment plans and public service loan forgiveness and debt management.

(ii) Personalized approaches to financial aid delivery, counseling, advising, and other support activities, which may include early warning systems, use of predictive analytics, need-based aid, emergency aid, or bonuses or other incentives for successful outcomes such as on-time academic progress and completion.

Priority 7: Implementing Low Cost-High Impact Strategies to Improve Student Outcomes

The Secretary gives priority to projects that use low-cost tools or strategies, such as those that use technology, that result in a high impact on student outcomes.

Priority 8: Improving Postsecondary Student Outcomes at Minority-Serving Institutions

The Secretary gives priority to projects designed to improve student outcomes at Minority-Serving Institutions (as defined in this notice).

Priority 9: Systems and Consortia Focused on Large-scale Impact

The Secretary gives priority to projects that involve consortia of institutions, including across a college or university system, and partnerships with leading experts that are implemented at multiple sites with large sample sizes to allow for more rapid development, evaluation, and scaling of practices determined to be effective.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Assistant Secretary for Postsecondary Education establishes the following requirements for this program. We may apply one or more of these requirements in any year in which this program is in effect.

1. Innovations that Improve Outcomes for High-Need Students: The Secretary may require that—

(a) Grantees must implement projects designed to improve outcomes of high-need students (as defined in this notice) in postsecondary education; or

(b) Grantees must implement projects designed to improve one or more of the following outcomes of high-need students (as defined in this notice) in postsecondary education:

(i) Persistence.

(ii) Academic progress.

(iii) Time to degree.

(iv) Completion.

2. Eligibility: The Secretary may make grants to, or enter into contracts with, one or more of the following:

An institution of higher education, combinations of such institutions, and other public and private nonprofit institutions and agencies.

The Secretary will announce the eligible applicants in the NIA.

3. Types of FITW Grants: Awards may be made for Development grants, Validation grants, and Scale-up grants. The Secretary will announce the type of grants that applicants may apply for in the NIA.

4. Evidence and Sample Size Standards: To be eligible for an award—

(a) An application for a Development grant must be supported by one of the following:

(i) Evidence of promise (as defined in 34 CFR 77.1(c)).

(ii) Strong theory (as defined in 34 CFR 77.1(c)).

(iii) Evidence of promise or strong theory.

The Secretary will announce in the NIA which evidence standard will apply to a Development grant in a given competition. Under (a)(iii), applicants must identify whether their application is supported by evidence of promise or strong theory.

(b) An application for a Validation grant must be supported by moderate evidence of effectiveness (as defined in 34 CFR 77.1(c)).

(c) An application for a Scale-up grant must be supported by strong evidence of effectiveness (as defined in 34 CFR 77.1(c)).

(d) The Secretary may require that an application for a Development grant, Validation grant, or Scale-up grant must be supported by one or more of the following levels of sample size:

(i) Large sample (as defined in 34 CFR 77.1(c)).

(ii) Multi-site sample (as defined in 34 CFR 77.1(c)), such as at multiple institutions.

(iii) Scaled multi-site sample, such as across a system of institutions, across institutions in a State, a region, or nationally, or across institutions in a labor market sector.

The Secretary will announce in the NIA which sample size standards will apply to each type of FITW grant (Development, Validation, or Scale-up) that is available.

(e) Where evidence of promise, moderate evidence of effectiveness, or strong evidence of effectiveness is required to receive a grant, an applicant's project must propose to implement the core aspects of the process, product, strategy, or practice from the supporting study as closely as possible. Where modifications to a cited process, product, strategy, or practice will be made to account for student or institutional characteristics, resource limitations, or other special factors or to address deficiencies identified by the cited study, the applicant must provide a justification or basis for the modifications. Modifications may not be proposed to the core aspects of any cited process, product, strategy, or practice.

5. Independent Evaluation:

(a) The grantee must conduct an Independent Evaluation (as defined in this notice) of its project. The evaluation must estimate the impact of the FITW-supported practice (as implemented at the proposed level of scale) on a relevant outcome (as defined in 34 CFR 77.1(c)).

(b) The grantee must make broadly available, digitally and free of charge, through formal (e.g., peer-reviewed journals) or informal (e.g., newsletters) mechanisms, the results of any evaluations it conducts of its funded activities. The grantee must also ensure that the data from its evaluation are made available to third-party researchers consistent with applicable privacy requirements.

(c) The grantee and its independent evaluator must agree to cooperate on an ongoing basis with any technical assistance provided by the Department or its contractor, including any technical assistance provided to ensure that the evaluation design meets the required evaluation standards, and comply with the requirements of any evaluation of the program conducted by the Department. This includes providing to the Department, within 100 days of a grant award, an updated comprehensive evaluation plan in a format and using such tools as the Department may require. Grantees must update this evaluation plan at least annually to reflect any changes to the evaluation and provide the updated evaluation plan to the Department. All of these updates must be consistent with the scope and objectives of the approved application.

6. Evaluation Design: The evaluation design for a Development grant, Validation grant, or Scale-up grant must meet one or either of the following standards:

(i) What Works Clearinghouse Evidence Standards (as defined in 34 CFR 77.1(c)) without reservations; or

(ii) What Works Clearinghouse Evidence Standards (as defined in 34 CFR 77.1(c)) with reservations.

The Secretary will announce in the NIA the evaluation standard(s) that will apply to each type of FITW grant (Development, Validation, or Scale-up) that is available.

7. Funding Categories: An applicant will be considered for an award only for the type of FITW grant (Development, Validation, and Scale-up) for which it applies. An applicant may not submit an application for the same proposed project under more than one type of grant.

8. Limit on Grant Awards: The Secretary may choose to deny the award of a grant to an applicant if the applicant already holds an active FITW grant from a previous FITW competition or, if awarded, would result in the applicant receiving more than one FITW grant in the same year.

9. Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project and provide the updated management plan to the Department.

Final Selection Criterion

The Assistant Secretary for Postsecondary Education establishes the following selection criterion for evaluating an application under this program. We may apply this criterion or any of the selection criteria from 34 CFR part 75 in any year in which this program is in effect. In the NIA, the application package, or both, we will announce the maximum points assigned to each selection criteria.

1. Collaborations: The extent to which the proposed project is designed to engage individuals or entities with expertise, experience, and knowledge regarding the project's activities, such as postsecondary institutions, non-profit organizations, experts, academics, and practitioners.

Final Definitions

The Assistant Secretary for Postsecondary Education establishes the following definitions for this program. We may apply one or more of these definitions in any year in which this program is in effect.

1. High-need student means a student at risk of educational failure or otherwise in need of special assistance and support such as adult learners, working students, part-time students, students from low-income backgrounds, students of color, first-generation students, students with disabilities, and students who are English learners. Note: The Department acknowledges that the definition of high-need students is not limited to these categories. This definition is for illustrative purposes and may include other categories of high-need students.

2. Independent evaluation means an evaluation that is designed and carried out independent of and external to the grantee, but in coordination with any employees of the grantee who develop a process, product, strategy, or practice and are implementing it.

3. Innovation means a process, product, strategy, or practice that improves (or is expected to improve) significantly upon the outcomes reached with status quo options and that can ultimately reach widespread effective usage.

4. Minority-serving institution means an institution that is eligible to receive assistance under sections 316 through 320 of part A of Title III, under part B of Title III, or under Title V of the HEA.

This notice does not preclude us from proposing additional priorities, requirements, definitions, or selection criteria, subject to meeting applicable rulemaking requirements.

Note: This notice of final priorities does not solicit applications. In any year in which we choose to use one or more of these priorities, requirements, selection criterion, and definitions, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, selection criterion, and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

Summary of potential costs and benefits:

In accordance with both Executive orders, the Department has assessed the potential costs and benefits, both quantitative and qualitative, of this regulatory action. The potential costs are those resulting from statutory requirements and those we have determined as necessary for administering the Department's programs and activities.

The benefits of the FITW program are the generation of a body of evidence for what works in postsecondary education through development, evaluation, and dissemination of innovative strategies to support students who are at risk of failure in persisting in and completing their postsecondary programs of study. The priorities, requirements, definitions, and selection criterion announced in this notice will provide applicants a framework for achieving the goals and objectives of the FITW program.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: May 5, 2015.
Jamienne S. Studley,
Deputy Under Secretary.

[FR Doc. 2015-11333 Filed 5-8-15; 8:45 am]

BILLING CODE 4000-01-P